DEPARTMENT OF ENERGY

U.S. Energy Information Administration

Agency Information Collection Extension

AGENCY: U.S. Energy Information Administration (EIA), Department of Energy.

ACTION: Notice and request for OMB review and comment.

SUMMARY: The EIA has submitted an information collection request to the Office of Management and Budget (OMB) for extension under the provisions of the Paperwork Reduction Act of 1995. The information collection requests a three-year extension of its CIPSEA Confidentiality Pledge Revision, OMB Control Number 1905-0211. The proposed collection will make permanent the modification to the confidentiality pledge that was approved on January 12, 2017, under the emergency clearance under OMB Control Number 1905-0211.

DATES: Comments regarding this proposed information collection must be received on or before July 5, 2017. If you anticipate that you will be submitting comments, but find it difficult to do so within the period of time allowed by this notice, please advise the DOE Desk Officer at OMB of your intention to make a submission as soon as possible. The Desk Officer may be telephoned at 202-395-4718.

ADDRESSES: Written comments should be sent to the DOE Desk Officer, Office of Information and Regulatory Affairs, Office of Management and Budget, New Executive Office Building, Room 10102, 735 17th Street NW., Washington, DC 20503.

And to Jacob.bournazian@eia.gov or Jacob Bournazian, U.S. Energy Information Administration, Mail Stop EI-23, Forrestal Building, 1000 Independence Avenue SW., Washington, DC 20585 (Email is preferred).

FOR FURTHER INFORMATION CONTACT: Jacob Bournazian, U.S. Energy Information Administration, 1000 Independence Avenue SW., Washington, DC 20585, phone: 202-586-5562 (this is not a toll-free number), email: jacob.bournazian@eia.gov. Because of delays in the receipt of regular mail related to security screening, respondents are encouraged to use electronic communications. The survey forms and instructions are available on the Internet at https://www.eia.gov/survey/.

SUPPLEMENTARY INFORMATION: This information collection request contains: (1) OMB No. 1905-0211; (2) Information Collection Request Title: CIPSEA Confidentiality Pledge Revision; (3) Type of Request: Three-year extension; (4) Purpose: Under 44 U.S.C. 3506(e), and 44 U.S.C. 3501 (note), EIA revised the confidentiality pledge(s) it provides to respondents for surveys that protect information under the Confidential Information Protection and Statistical Efficiency Act (44 U.S.C. 3501 (note)) (CIPSEA). EIA's CIPSEA confidentiality pledge needed to be modified to be consistent with provisions of the Federal Cybersecurity Enhancement Act of 2015 (Pub. L. 114-11, Division N, Title II, Subtitle B, Sec. 223), which permit and require the Secretary of the Department of Homeland Security (DHS) to provide Federal civilian agencies' information technology systems with cybersecurity protection for their Internet traffic. In 2004, EIA's original CIPSEA confidentiality pledge stated that the information respondents provide will be seen only by EIA personnel or their sworn agents, and be used only for statistical purposes. As part of the Consolidated Appropriations Act for Fiscal Year 2016 signed on December 17, 2015, the Congress included the Federal Cybersecurity Enhancement Act of 2015 (Pub. L. 114-11, Division N, Title II, Subtitle B, Sec. 223). This Act, among other provisions, permits and requires DHS to provide Federal civilian agencies' information technology systems with cybersecurity protection for their Internet traffic. The technology currently used to provide this protection against cyber malware is known as Einstein 3A; it electronically searches Internet traffic in and out of Federal civilian agencies in real time for malware signatures. When such a signature is found, the Internet packets that contain the malware signature are moved to a secured area for further inspection by DHS personnel. Because it is possible that such packets entering or leaving a statistical agency's information technology system may contain a small portion of confidential statistical data, statistical agencies no longer promise their respondents that their responses will be seen only by statistical agency personnel or their sworn agents. However, EIA does promise, in accordance with provisions of the Federal Cybersecurity Enhancement Act of 2015, that such monitoring will be used only to protect information and information systems from cybersecurity risks, thereby, in effect, providing stronger protection to the integrity of the respondents' submissions. Since it is possible that DHS personnel may see some portion of those confidential data in the course of examining the suspicious Internet packets identified by Einstein 3A sensors, EIA revised its confidentiality pledge on January 12, 2017, under an emergency clearance, to reflect this process change. The submission of this request to OMB makes the change in EIA's CIPSEA confidentiality pledge permanent for all surveys that EIA protects under the CIPSEA statute. Therefore, EIA provides this notice to alert the public of this permanent change in its confidentiality pledge in an efficient and coordinated manner.

Statutory Authority: Section 13(b) of the Federal Energy Administration Act of 1974, Pub. L. 93-275, codified as 15 U.S.C. 772(b) and the DOE Organization Act of 1977, Pub. L. 95-91, codified at 42 U.S.C. 7101 et seq.

Issued in Washington, DC, on May 8, 2017.
Nanda Srinivasan,
Director, Office of Survey Development and Statistical Integration, U.S. Energy Information Administration.

[FR Doc. 2017-11549 Filed 6-2-17; 8:45 am]

BILLING CODE 6450-01-P